FEDERAL MEDIATION AND CONCILIATION SERVICE

[Docket No.: FMCS-2021-3]

Notice to Mediation Agency

AGENCY: Federal Mediation and Conciliation Service (FMCS).

ACTION: 60-Day notice and request for comments.

SUMMARY: The Federal Mediation and Conciliation Service (FMCS), invites the general public and other Federal Agencies to take this opportunity to comment on the following information collection request, Notice to Mediation Agency, (Agency Form F-7). This information collection request was previously approved by the Office of Management Budget (OMB) but has expired. FMCS is requesting a reinstatement without change. The Notice to Mediation Agency, (Agency Form F-7), allows parties to comply with their statutory obligation under the Labor Management Relations Act of 1947. The Agency Form F-7 also allows FMCS to receive these notices from parties to a collective bargaining agreement to comply with its statutory mandate to facilitate mediation.

DATES: Comments must be submitted on or before September 13, 2021.

ADDRESSES: You may submit comments [identified by Docket No.: FMCS- 2021-3] through one of the following methods:

• Email: Arthur Pearlstein, apearlstein@fmcs.gov;

• Mail: Arthur Pearlstein, HQ Office of Arbitration, One Independence Square, 250 E St SW, Washington, DC 20427. Please note that at this time, the FMCS office is not open for visitors and mail is not checked daily. Therefore, we encourage emailed comments.

FOR FURTHER INFORMATION CONTACT: Arthur Pearlstein, 202-606-8103, apearlstein@fmcs.gov.

SUPPLEMENTARY INFORMATION: Copies of the agency form are available here. Paper copies are available from the Office of Arbitration Services by emailing Arthur Pearlstein at the email address above. Please ask for Agency Form F-7.

I. Information Collection Request

Agency: Federal Mediation and Conciliation Service.

Form Number: OMB No. 3076-0004.

Type of Request: Reinstatement without change of a previously approved collection.

Affected Entities: Employers and their representatives; and labor unions, their representatives and employees, regarding contract negotiations.

Frequency: This form is completed once for resolution facilitation.

Abstract: Under the Labor Management Relations Act of 1947, 29 U.S.C. 158(d), Congress listed specific notice provisions so that no party to a collective bargaining agreement can terminate or modify a collective bargaining contract, unless the party wishing to terminate or modify the contract sends a written notice to the other party sixty days prior to the expiration date (29 U.S.C. 158(d)(1)) and offers to meet and confer with the other party for the purpose of negotiating a new or modified contract (29 U.S.C. 158(d)(2)). The Act requires that parties notify FMCS within thirty days after such notice of the existence of a bargaining dispute (29 U.S.C. 158(d)(3)). The 1974 amendments to the National Labor Relations Act extended coverage to nonprofit health care institutions, including similar notices to FMCS. 29 U.S.C. 158(d) and (g). To facilitate handling around 27,190 notices a year, FMCS created information collection form F-7. The purpose of this information collection activity is for FMCS to comply with its statutory duty to receive these notices, to facilitate assignment of mediators to assist in labor disputes, and to assist the parties in knowing whether proper notice was given. The information from these notices is sent electronically to the appropriate field manager who assigns the cases to a mediator so that the mediator may contact labor and management quickly, efficiently, and offer dispute resolution services. Either party to a contract may make a request in writing for a copy of the notice filed with FMCS. Form F-7 was created to allow FMCS to gather desired information in a uniform manner. The collection of such information, including the name of the employer or employer association, address and phone number, email address, official contact, bargaining unit and establishment size, location of affected establishment and negotiations, industry, union address, phone number, email address and official contact, contract expiration date or renewal date, whether the notice is filed on behalf of the employer or the union, and whether this is a health care industry notice is critical for reporting and mediation purposes.

Burden: The current total annual burden estimate is that FMCS will receive requests from approximately 27,190 respondents per year. The form takes about 10 minutes to complete.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. The Official Record

The official records are paper and electronic records. The paper records are maintained at the address at the beginning of this document.

Dated: July 8, 2021.
Sarah Cudahy,
General Counsel.

[FR Doc. 2021-14823 Filed 7-12-21; 8:45 am]

BILLING CODE 6732-01-P